TENNESSEE VALLEY AUTHORITY

[Meeting No. 17-02]

Sunshine Act Meeting Notice

The TVA Board of Directors will hold a public meeting on May 11, 2017, at the Tucker Theatre, 615 Champion Way, Murfreesboro, Tennessee. The public may comment on any agenda item or subject at a public listening session which begins at 9:30 a.m. (CT). Following the end of the public listening session, the meeting will be called to order to consider the agenda items listed below. On-site registration will be available until 15 minutes before the public listening session begins at 9:30 a.m. (CT). Preregistered speakers will address the Board first. TVA management will answer questions from the news media following the Board meeting.

Status: Open

Agenda:

Chair's Welcome

Old Business

Approval of minutes of the February 16, 2017, Board Meeting

New Business

1. Report from President and CEO

2. Report of the Finance, Rates, and Portfolio Committee

A. Strategic Fiber Initiative

B. Nuclear Fuel Fabrication Contract for Watts Bar Nuclear and Sequoyah Nuclear Plants

C. Uranium Feed Contract

D. Coal Combustion Residuals Contract

3. Report of the Nuclear Oversight Committee

4. Report of the Audit, Risk, and Regulation Committee

A. Board Practice on External Inquiries/Interactions

5. Report of the People and Performance Committee

6. Report of the External Relations Committee

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: May 4, 2017.
Sherry A. Quirk,
General Counsel.

[FR Doc. 2017-09451 Filed 5-5-17; 4:15 pm]

BILLING CODE 8120-08-P